LEGAL SERVICES CORPORATION

Sunshine Act Meeting

TIME AND DATE: The Finance Committee of the Legal Services Corporation Board of Directors will meet virtually on June 30, 2022. The meeting will commence at 2:30 p.m. EDT, and will continue until the conclusion of the Committee's agenda.

PLACE: Public Notice of Virtual Meetings:

LSC will conduct the June 30, 2022 meetings via Zoom.

Public Observation: Unless otherwise noted herein, the Finance Committee meeting will be open to public observation via Zoom. Members of the public who wish to participate remotely in the public proceedings may do so by following the directions provided below.

Directions for Open Session

June 30, 2022

• To join the Zoom meeting by computer, please use this link.

• https://lsc-gov.zoom.us/j/89857351710?pwd=dGc4K3hwVVVPZFNlZW16OFhrQzJTdz09&from=addon

○ Meeting ID: 898 5735 1710

○ Passcode: 63022

• To join the Zoom meeting with one tap from your mobile phone, please click dial:

○ +13017158592,,89857351710# US (Washington DC)

○ +13126266799,,89857351710# US (Chicago)

• To join the Zoom meeting by telephone, please dial one of the following numbers:

○ +1 301 715 8592 US (Washington DC)

○ +1 312 626 6799 US (Chicago)

○ +1 646 876 9923 US (New York)

○ +1 408 638 0968 US (San Jose)

○ +1 669 900 6833 US (San Jose)

○ +1 253 215 8782 US (Tacoma)

○ +1 346 248 7799 US (Houston)

○ Meeting ID: 898 5735 1710

○ Passcode: 63022

Once connected to Zoom, please immediately mute your computer or telephone. Members of the public are asked to keep their computers or telephones muted to eliminate background noise. To avoid disrupting the meetings, please refrain from placing the call on hold if doing so will trigger recorded music or other sound.

From time to time, the Finance Committee Chair may solicit comments from the public. To participate in the meeting during public comment, use the `raise your hand' or `chat' functions in Zoom and wait to be recognized by the Chair before stating your questions and/or comments.

STATUS: Open.

MATTERS TO BE CONSIDERED:

1. Approval of Meeting Agenda

2. Discussion with LSC Leadership Regarding Recommendations for LSC's Fiscal Year 2024 Budget Request

• Ronald S. Flagg, President

• Carol A. Bergman, Vice President for Government Relations & Public Affairs

3. Discussion with Leadership from the Office of Inspector General (OIG) for the Legal Services Corporation Regarding OIG's Fiscal Year 2024 Budget Request

• Roxanne Caruso, Acting Inspector General

• David Maddox, Assistant Inspector General for Management and Evaluation

4. Public Comment

5. Consider and Act on Other Business

6. Consider and Act on Adjournment of Meeting

CONTACT PERSON FOR MORE INFORMATION: Kaitlin Brown, Executive and Board Project Coordinator, at (202) 295-1555. Questions may also be sent by electronic mail to brownk@lsc.gov.

Non-Confidential Meeting Materials: Non-confidential meeting materials will be made available in electronic format at least 24 hours in advance of the meeting on the LSC website, at https://www.lsc.gov/about-lsc/board-meeting-materials.

Dated: June 21, 2022.
Kaitlin D. Brown,
Executive and Board Project Coordinator, Legal Services Corporation.

[FR Doc. 2022-13586 Filed 6-21-22; 4:15 pm]

BILLING CODE 7050-01-P